DEPARTMENT OF HOMELAND SECURITY

[Docket No. DHS-2018-0026]

Privacy Act of 1974; System of Records

AGENCY: Department of Homeland Security.

ACTION: Notice of a Modified System of Records.

SUMMARY: In accordance with the Privacy Act of 1974, the Department of Homeland Security (DHS) proposes to modify a current DHS system of records titled, “DHS/ALL-008 Accounts Receivable System of Records.” This system of records allows DHS to collect and maintain records on accounts receivable, which enables DHS to have an accurate accounting of money it is owed. DHS is updating this system of records notice (SORN) to clarify the authorities for collection; and expand the record source categories, categories of individuals, and categories of records. DHS is also modifying routine use E and adding routine use F to comply with the Office of Management and Budget (OMB) Memorandum M-17-12. This notice also updates the system location and includes non-substantive changes to simplify the formatting and text of the previously published notice. This modified system will be included in DHS's inventory of record systems.

DATES: Submit comments on or before January 18, 2019. This modified system will be effective upon publication. New or modified routine uses will be effective January 18, 2019.

ADDRESSES: You may submit comments, identified by docket number DHS-2018-0026 by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

Instructions: All submissions received must include the agency name and docket number DHS-2018-0026. All comments received will be posted without change to http://www.regulations.gov, including any personal information provided.

Docket: For access to the docket to read background documents or comments received, go to http://www.regulations.gov.

FOR FURTHER INFORMATION CONTACT: For general questions and for privacy issues, please contact: Philip S. Kaplan, Privacy@hq.dhs.gov, (202) 343-1717, Chief Privacy Officer, Privacy Office, Department of Homeland Security, Washington, DC 20528-0655.

SUPPLEMENTARY INFORMATION:

I. Background

DHS is modifying and reissuing the DHS/ALL-008 Accounts Receivable SORN. This system consists of both electronic and paper records collected and used by DHS and its Components and offices to maintain accounts receivable information. This information assists DHS in meeting its obligation to manage Departmental funds and ensures that the Department has an accurate accounting of all the money that it is owed to the Department.

DHS is updating this SORN to clarify its authorities to collect accounts receivable information. DHS is also updating this SORN to reflect changes to the data elements collected by Components when assessing debts owed and the ability of individuals to repay those debts. DHS is updating the category of individuals to include household members of debtors, which allows DHS to better assess the ability of debtors to repay money owed by taking into account financial contributions from spouses and children over 18 years of age. DHS is updating the category of records to include debtor date of birth, debtor employer information, debtor spouse information, and name and age of household dependents. DHS is also including in the categories of records and record source categories information accessed from the Department of Treasury's “Do Not Pay” program. The “Do Not Pay” program determines if a previous payment by DHS was improper, and thus in need of recoupment, by checking death records, federal debt records, and lists of sanctioned individuals. The DHS/ALL-008 Accounts Receivable system location was also updated to reflect the fact that financial management activities for DHS are now processed solely at DHS facilities. This SORN also modifies routine use “E” and adds routine use “F” to be in conformity with OMB Memorandum M-17-12. Additionally, this notice includes non-substantive changes to simplify the formatting and text of the previously published notice.

Consistent with DHS's information sharing mission, information stored in DHS/ALL-008 Accounts Receivable may be shared with other DHS Components that have a need to know the information to carry out their national security, law enforcement, immigration, intelligence, or other homeland security functions. In addition, DHS may share information with appropriate Federal, state, local, tribal, territorial, foreign, or international government agencies consistent with the routine uses set forth in this system of records notice. Further, for awareness, DHS may disclose, pursuant to 5 U.S.C. 552a(b)(12), to consumer reporting agencies, in accordance with 15 U.S.C. 1681, et seq. or the Federal Claims Collection Act of 1966, as amended (31 U.S.C. 3701, et seq.), to aid in the collection of outstanding debts owed to the Federal Government. Disclosure of records is limited to the individual's name, address, tax identification number or Social Security number, and other information necessary to establish the individual's identity; the amount, status, and history of the claim; and the agency or program under which the claim arose. The disclosure will be made only after the procedural requirements of 31 U.S.C. 3711(e) have been followed.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the JRA, along with judicial review for denials of such requests. In addition, the JRA prohibits disclosures of covered records, except as otherwise permitted by the Privacy Act.

Below is the description of the DHS/ALL-008 Accounts Receivable System of Records. In accordance with 5 U.S.C. 552a(r), DHS has provided a report of this system of records to OMB and to Congress.

SYSTEM NAME AND NUMBER

Department of Homeland Security (DHS)/ALL-008 Accounts Receivable.

SECURITY CLASSIFICATION:

Unclassified.

SYSTEM LOCATION:

Records are maintained at several Headquarters locations and in Component offices of DHS, in both Washington, DC and field offices.

SYSTEM MANAGER(S):

The Chief Financial Officer, Financial Management Division, ocfo-fmd@hq.dhs.gov, Department of Homeland Security, Washington, DC 20528.

AUTHORITY FOR MAINTENANCE OF THE SYSTEM:

5 U.S.C. 5701 et seq., Travel, Transportation, and Subsistence; 19 U.S.C. 1451; 26 U.S.C. 6401(d); 31 U.S.C. 7701(c); Chief Financial Officers Act of 1990, Public Law 101-576; Federal Debt Collection Procedures Act of 1990, Public Law 101-647; Debt Collection Improvement Act of 1996, Public Law 104-134; Digital Accountability and Transparency Act (DATA Act) of 2014, Public Law 113-101, sec. 5; and 6 CFR part 11, subpart A—Debt Collection.

PURPOSE(S) OF THE SYSTEM:

The purpose of this system is to collect and maintain records of debts owed to DHS.

CATEGORIES OF INDIVIDUALS COVERED BY THE SYSTEM:

Any individual or organization that is indebted to DHS. This may include: (1) Individuals; (2) household members; (3) spouses; and (4) employers.

CATEGORIES OF RECORDS IN THE SYSTEM:

• Individual's name;

• Date of birth;

• Tax identification number, which may be a Social Security number in certain instances;

• Addresses;

• Phone numbers;

• Email addresses;

• Name of employer;

• Waiver of Debt Letter of Appeal;

• Receipts;

• Notices of debts;

• Invoices;

• Record of payments, including refunds and overpayments;

• Records of previous improper payments by DHS;

• Records relevant to determinations of an individual's or organization's eligibility to receive payments from the Federal Government, including death records, Federal debt records, and status of individuals on Federal sanctions lists;

• Number and amount of unpaid or overdue bills;

• Record of satisfaction of debt or referral for further action;

• Correspondence and documentation with debtors and creditors;

• Electronic financial institution data;

• Household Information:

○ Spouse information:

Date of birth;

Basic contact information;

Tax identification number, which may be a Social Security number in certain instances; and

Name of employer.

○ Dependent information:

Name;

Age;

Relationship.

RECORD SOURCE CATEGORIES:

Records are obtained from DHS, its Components and offices, and individuals submitting supporting documentation for reimbursement. Records covered by other systems of records include the Department of the Treasury/Bureau of the Fiscal Service .023—Do Not Pay Payment Verification Records, 78 FR 73923 (Dec. 9, 2013).

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other Federal agency conducting litigation or proceedings before any court, adjudicative, or administrative body, when it is relevant or necessary to the litigation and one of the following is a party to the litigation or has an interest in such litigation:

1. DHS or any Component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another Federal agency or Federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate Federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To a Federal, state, or local agency so that the agency may adjudicate an individual's eligibility for a benefit.

J. To the DOJ or other Federal agency for further collection action on any delinquent debt when circumstances warrant.

K. To a debt collection agency for the purposes of debt collection.

L. To approved Federal, state, and local government agencies for any legally mandated purpose in accordance with their authorizing statute or law and where an approved Memorandum of Agreement or Computer Matching Agreement is in place between DHS and the entity.

M. To provide information to unions recognized as exclusive bargaining representatives under the Civil Service Reform Act of 1978, 5 U.S.C. 7111 and 7114.

N. To the Merit Systems Protection Board, arbitrators, the Federal Labor Relations Authority, Equal Employment Opportunity Commission, and other parties responsible for the administration of the Federal Labor-Management Relations Program for the purpose of processing any corrective actions, grievances, or conducting administrative hearings or appeals, or if needed in the performance of other similar authorized duties.

O. To Federal agencies that provide financial management services for DHS Components under a cross-servicing agreement for purposes such as budgeting, purchasing, procurement, reimbursement, reporting, and collection functions.

P. To the Government Accountability Office, DOJ, or Offices of the United States Attorney, copies of the Debt Collection Officer's file regarding the debt and actions taken to attempt to collect monies owed.

Q. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS stores records in this system electronically or on paper in secure facilities in a locked drawer behind a locked door. The records may be stored on magnetic disc, tape, and digital media.

POLICIES AND PRACTICES FOR RETRIEVAL OF RECORDS:

Records may be retrieved by an individual's name, tax identification number/Social Security number, employee identification number, or other personal identifier.

POLICIES AND PRACTICES FOR RETENTION AND DISPOSAL OF RECORDS:

DHS destroys records six years after final payment or cancellation, or longer if required for a business use, in accordance with National Archives and Records Administration (NARA) General Records Schedule 1.1, Financial Management and Reporting Records, item 010, and DAA-GRS-2013-0003-0001.

ADMINISTRATIVE, TECHNICAL, AND PHYSICAL SAFEGUARDS:

DHS safeguards records in this system according to applicable rules and policies, including all applicable DHS automated systems security and access policies. DHS has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and Headquarters or Component's Freedom of Information Act (FOIA) Officer, whose contact information can be found at http://www.dhs.gov/foia under “Contact Information.” If an individual believes more than one Component maintains Privacy Act records concerning him or her, the individual may submit the request to the Chief Privacy Officer and Chief Freedom of Information Act Officer, Department of Homeland Security, Washington, DC 20528-0655. Even if neither the Privacy Act nor the Judicial Redress Act provide a right of access, certain records about you may be available under the Freedom of Information Act.

When an individual is seeking records about himself or herself from this system of records or any other Departmental system of records, the individual's request must conform with the Privacy Act regulations set forth in 6 CFR part 5. The individual must first verify his or her identity, meaning that the individual must provide his or her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why he or she believes the Department would have information on him or her;

• Identify which Component(s) of the Department the individual believes may have the information about him or her;

• Specify when the individual believes the records would have been created; and

• Provide any other information that will help the FOIA staff determine which DHS Component agency may have responsive records.

If an individual's request is seeking records pertaining to another living individual, the person seeking the records must include a statement from the subject individual certifying his or her agreement for the requestor to access his or her records.

Without the above information, the Component(s) may not be able to conduct an effective search, and the individual's request may be denied due to lack of specificity or lack of compliance with applicable regulations.

CONTESTING RECORD PROCEDURES:

For records covered by the Privacy Act or covered JRA records, see “Record Access Procedures” above.

NOTIFICATION PROCEDURES:

See “Record Access Procedures.”

EXEMPTIONS PROMULGATED FOR THE SYSTEM:

None.

HISTORY:

80 FR 58289 (September 28, 2015); 73 FR 61885 (October 17, 2008).

Philip S. Kaplan,
Chief Privacy Officer, Department of Homeland Security.

[FR Doc. 2018-27390 Filed 12-18-18; 8:45 am]

BILLING CODE 9110-9B-P